DEPARTMENT OF STATE

[Public Notice 9169]

30-Day Notice of Proposed Information Collection: Application for Immigrant and Alien Registration

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to July 13, 2015.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to George Weber at PRA_BurdenComments@state.gov.

SUPPLEMENTARY INFORMATION:

• Title of Information Collection: Application for Immigrant Visa and Alien Registration.

• OMB Control Number: 1405-0015.

• Type of Request: Extension of a Currently Approved Application.

• Originating Office: CA/VO/L/R.

• Form Number: DS-230.

• Respondents: Immigrant Visa Applicants.

• Estimated Number of Respondents: 5,000 respondents.

• Estimated Number of Responses: 5,000 responses.

• Average Time Per Response: 1 hour.

• Total Estimated Burden Time: 5,000 hours.

• Frequency: Once per Respondent.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Department of State consular officers use Form DS-230 (Application for Immigrant Visa and Alien Registration), in conjunction with a personal interview and other requirements set forth in 22 CFR part 42, subpart G, to elicit information necessary to ascertain the applicability of the legal requirements to issue an immigrant visa. The information requested on the form is limited to that which is necessary for consular officers to determine the eligibility and classification of aliens seeking immigrant visas to the United States efficiently. A consular officer is unable to adjudicate such visas without collecting this information.

Methodology

The DS-230 is available electronically via the internet and is downloaded, completed online, printed and submitted to the National Visa Center (NVC). The web address where the DS-230 can be accessed is http://travel.state.gov/content/visas/english/forms.html.

Dated: May 4, 2015.
Edward Ramotowski,
Deputy Assistant Secretary, Bureau of Consular Affairs, Department of State.

[FR Doc. 2015-14357 Filed 6-10-15; 8:45 am]

BILLING CODE 4710-06-P